DEPARTMENT OF TRANSPORTATION

Federal Aviation Administration

14 CFR Part 39

[Docket No. FAA-2005-21680; Directorate Identifier 2004-SW-48-AD]

RIN 2120-AA64

Airworthiness Directives; Bell Helicopter Textron Canada Model 206A, A-1, B, B-1, L, L-1, L-3, L-4 Helicopters

AGENCY: Federal Aviation Administration, DOT.

ACTION: Notice of proposed rulemaking (NPRM).

SUMMARY: This document proposes adopting a new airworthiness directive (AD) for the specified Bell Helicopter Textron Canada (BHTC) model helicopters. This proposal would require, before the first flight of each day, checking the tail rotor blade (blade) root doublers (doublers) for an edge void or de-bond on both sides of each blade, and if an edge void or de-bond is found, replacing the unairworthy blade with an airworthy blade. This proposal would also require replacing any affected serial-numbered blade with an airworthy blade. This proposal is prompted by reports of de-bond of the doublers due to inadequate surface preparation resulting in poor adherence of the doublers. The actions specified by this proposed AD are intended to prevent loss of a blade, loss of tail rotor control, and subsequent loss of control of the helicopter.

DATES: Comments must be received on or before August 29, 2005.

ADDRESSES: Use one of the following addresses to submit comments on this proposed AD:

• DOT Docket Web Site: Go to http://dms.dot.gov and follow the instructions for sending your comments electronically;

• Government-wide Rulemaking Web Site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may get the service information identified in this proposed AD from Bell Helicopter Textron Canada, 12,800 Rue de l'Avenir, Mirabel, Quebec J7J1R4, telephone (450) 437-2862 or (800) 363-8023, fax (450) 433-0272.

You may examine the comments to this proposed AD in the AD docket on the Internet at http://dms.dot.gov.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION:

Comments Invited

We invite you to submit any written data, views, or arguments regarding this proposed AD. Send your comments to the address listed under the caption ADDRESSES. Include the docket number “FAA-2005-21680, Directorate Identifier 2004-SW-48-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78), or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation NASSIF Building in Room PL-401 at 400 Seventh Street, SW., Washington, DC. Comments will be available in the AD docket shortly after the DMS receives them.

Discussion

Transport Canada, the airworthiness authority for Canada, notified the FAA that an unsafe condition may exist on Model 206A, B, and L series helicopters. Transport Canada advises that an inadequate surface preparation on a limited number of blades resulted in two reported instances of blade root doubler de-bond. They also advise that to ensure blade integrity all suspected blades are to be checked daily until removed from service.

BHTC has issued Alert Service Bulletin Nos. 206-04-101 and 206L-04-131, both dated September 13, 2004, which specify a daily check of the doubler area to verify integrity of the doubler by a pilot as part of the daily pre-flight check. The service bulletins also specify a retirement from service of affected blades, which constitutes terminating action. Transport Canada classified these service bulletins as mandatory and issued AD No. CF-2004-25, dated November 23, 2004, to ensure the continued airworthiness of these helicopters in Canada.

These helicopter models are now manufactured in Canada and are type certificated for operation in the United States under the provisions of 14 CFR 21.29 and the applicable bilateral agreement. Pursuant to the applicable bilateral agreement, Transport Canada has kept us informed of the situation described above. We have examined the findings of Transport Canada, reviewed all available information, and determined that AD action is necessary for products of these type designs that are certificated for operation in the United States.

This previously described unsafe condition is likely to exist or develop on other helicopters of these same type designs registered in the United States. Therefore, the proposed AD would require the following:

• Before the first flight of each day, clean each blade and check the doublers for an edge void or de-bond on both sides of each blade. An owner/operator (pilot) holding at least a private pilot certificate may perform the checks. Pilots may perform these checks because they require no tools, can be done by observation, and can be done equally well by a pilot or a mechanic. However, the pilot must enter compliance with these requirements into the helicopter maintenance records by following 14 CFR 43.11 and 91.417(a)(2)(v).

• If an edge void or de-bond is found, before further flight, replace the affected blade with an airworthy blade with a serial number other than those to which this AD applies.

• Within 100 hours time-in-service, replace all affected blades with airworthy blades with a serial number other than those to which this AD applies.

We estimate that this proposed AD would affect 2194 helicopters of U.S. registry. The proposed actions would:

• Take about ¼ work hour to do a daily check for blade edge voids and de-bonds; and

• Take about 4 work hours to replace a blade at an average labor rate of $65 per work hour.

• Cost about $5848 for a replacement blade.

Based on these figures, we estimate the total cost impact of the proposed AD on U.S. operators to be $201,058, assuming 26 blades are affected and replaced and assuming 100 daily checks are done.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Bell Helicopter Textron Canada: Docket No. FAA-2005-21680; Directorate Identifier 2004-SW-48-AD.

Applicability: Model 206A, A-1, B, B-1, L, L-1, L-3, L-4 helicopters, with tail rotor blade (blade), part number (P/N) 206-016-201-131, serial numbers with a prefix of “CS” and 4820 through 4845, installed, certificated in any category.

Compliance: Required as indicated, unless accomplished previously.

To prevent loss of a blade, loss of tail rotor control, and subsequent loss of control of the helicopter, accomplish the following:

(a) Before the first flight of each day, clean each blade and visually check the blade root doublers for an edge void or de-bond on both sides of each blade as depicted in Figure 1 of this AD. An owner/operator (pilot), holding at least a private pilot certificate, may perform this visual check and must enter compliance with this paragraph into the helicopter maintenance records by following 14 CFR sections 43.11 and 91.417(a)(2)(v).

(b) If an edge void or a de-bond is found, before further flight, replace the blade with an airworthy blade with a serial number other than those to which this AD applies.

(c) Within 100 hours time-in-service, replace all affected, serial-numbered blades with airworthy blades with a serial number other than those to which this AD applies.

Note 1: Bell Helicopter Textron Alert Service Bulletin Nos. 206-04-101 and 206L-04-131, both dated September 13, 2004, pertain to the subject of this AD.

(d) Replacing an affected, serial-numbered blade with an airworthy blade without an affected serial number contained in the applicability section of this AD constitutes terminating action for the requirements of this AD for that blade.

(e) To request a different method of compliance or a different compliance time for this AD, follow the procedures in 14 CFR 39.19. Contact the Safety Management Group, Rotorcraft Directorate, FAA, for information about previously approved alternative methods of compliance.

(f) Special flight permits may be issued in accordance with 14 CFR 21.197 and 21.199 to operate the helicopter to a location where the blade may be replaced provided that no doubler edge void or de-bond is found during any check or inspection.

Note 2: The subject of this AD is addressed in Transport Canada, Canada AD No. CF-2004-25, dated November 23, 2004.

Issued in Fort Worth, Texas, on June 20, 2005.
S. Frances Cox,
Acting Manager, Rotorcraft Directorate, Aircraft Certification Service.

[FR Doc. 05-12690 Filed 6-27-05; 8:45 am]

BILLING CODE 4910-13-P